DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Northeast Region Surfclam and Ocean Quahog Individual Transfer Quota (ITQ) Administration.

OMB Control Number: 0648-0240.

Form Number(s): NA.

Type of Request: Regular submission (extension of a current information collection).

Number of Respondents: 170.

Average Hours per Response: Application to shuck at sea, 30 minutes; individual transferable quota (ITQ) allocation or cage tag transfer, 5 minutes.

Burden Hours: 33.

Needs and Uses: National Marine Fisheries Service (NMFS) Northeast Region manages the Atlantic surfclam and ocean quahog fisheries of the Exclusive Economic Zone (EEZ) of the Northeastern United States through the Atlantic Surfclam and Ocean Quahog Fishery Management Plan (FMP). The Mid-Atlantic Fishery Management Council prepared the FMP pursuant to the Magnuson-Stevens Fishery Conservation and Management Act (Magnuson-Stevens Act). The regulations implementing the FMP are specified at 50 CFR part 648.70.

The recordkeeping and reporting requirements at § 648.74 and § 648.75 form the basis for this collection of information. NMFS Northeast Region requests information from Atlantic surfclam and ocean quahog ITQ allocation holders in order to process and track requests from the allocation holders to transfer quota allocation to another entity. The region also requests information from Atlantic surfclam and ocean quahog permit holders in order to track and properly account for Atlantic surfclam and ocean quahog harvest that is shucked at sea. Because there is not a standard conversion factor for estimating unshucked product from shucked product, NMFS requires vessels that choose to shuck product at sea to carry on board the vessel a NMFS-approved observer to certify the amount of Atlantic surfclam and ocean quahog harvested. This information, upon receipt, results in an increasingly more efficient and accurate database for management and monitoring of fisheries of the Northeastern U.S. EEZ.

Affected Public: Business or other for-profit organizations.

Frequency: Annually.

Respondent's Obligation: Mandatory.

OMB Desk Officer: OIRA_Submission@omb.eop.gov.

Copies of the above information collection proposal can be obtained by calling or writing Jennifer Jessup, Departmental Paperwork Clearance Officer, (202) 482-0336, Department of Commerce, Room 6616, 14th and Constitution Avenue NW, Washington, DC 20230 (or via the Internet at JJessup@doc.gov).

Written comments and recommendations for the proposed information collection should be sent within 30 days of publication of this notice to OIRA_Submission@omb.eop.gov.

Dated: March 16, 2012.
Gwellnar Banks,
Management Analyst, Office of the Chief Information Officer.

[FR Doc. 2012-6868 Filed 3-21-12; 8:45 am]

BILLING CODE 3510-22-P